DEPARTMENT OF TRANSPORTATION

Federal Aviation Administration

14 CFR Part 71

[Docket No. FAA-2012-0341; Airspace Docket No. 12-AEA-4]

Amendment of Class E Airspace; Wilkes-Barre, PA

AGENCY: Federal Aviation Administration (FAA), DOT.

ACTION: Final rule.

SUMMARY: This action amends Class E Airspace at Wilkes-Barre, PA, creating controlled airspace to accommodate new area navigation (RNAV) Standard Instrument Approach Procedures at Wilkes-Barre Wyoming Valley Airport. Airspace reconfiguration is necessary for the continued safety and management of instrument flight rules (IFR) operations in the Wilkes-Barre, PA, area. This action also recognizes the name change of Hanover Township Fire Station #5 Heliport. The BARTY LOM navigation aid is removed, as this navigation aid has been decommissioned.

DATES: Effective 0901 UTC, March 7, 2013. The Director of the Federal Register approves this incorporation by reference action under title 1, Code of Federal Regulations, part 51, subject to the annual revision of FAA Order 7400.9 and publication of conforming amendments.

FOR FURTHER INFORMATION CONTACT: John Fornito, Operations Support Group, Eastern Service Center, Federal Aviation Administration, P. O. Box 20636, Atlanta, Georgia 30320; telephone (404) 305-6364.

SUPPLEMENTARY INFORMATION:

History

On July 18, 2012, the FAA published in the Federal Register a notice of proposed rulemaking (NPRM) to amend Class E airspace in the Wilkes-Barre, PA, area by creating controlled airspace at Wilkes-Barre/Wyoming Valley Airport, Wilkes-Barre, PA (77 FR 42228). Interested parties were invited to participate in this rulemaking effort by submitting written comments on the proposal to the FAA. One positive comment was received. Subsequent to publication the FAA found that the BARTY LOM navigation aid was decommissioned and, therefore, is being removed from the Class E airspace designation of Class E airspace designated as an extension.

Class E airspace designations are published in paragraph 6004 and 6005, respectively, of FAA Order 7400.9W dated August 8, 2012, and effective September 15, 2012, which is incorporated by reference in 14 CFR 71.1. The Class E airspace designations listed in this document will be published subsequently in the Order.

The Rule

This amendment to Title 14, Code of Federal Regulations (14 CFR) part 71 amends Class E airspace in the Wilkes-Barre, PA, area by creating controlled airspace extending upward form 700 feet above the surface at Wilkes-Barre/Wyoming Valley Airport to support the new RNAV standard instrument approach procedures for the airport. Additionally, the BARTY LOM has been decommissioned, and is removed from the Class E airspace designated as an extension to Class D surface area and the Class E airspace extending upward from 700 feet above the surface. These modifications are necessary for the safety and management of IFR operations in the Wilkes-Barre, PA, area. Also, the heliport formerly known as Fire Station Helipad at Mercy Hospital is renamed Hanover Township Fire Station #5 Heliport. Except for editorial changes and the changes listed above, this rule is the same as that proposed in the NPRM.

The FAA has determined that this regulation only involves an established body of technical regulations for which frequent and routine amendments are necessary to keep them operationally current, is non-controversial and unlikely to result in adverse or negative comments. It, therefore, (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of airspace necessary to ensure the safety of aircraft and the efficient use of airspace. This regulation is within the scope of that authority as it amends controlled airspace in the Wilkes-Barre, PA area.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment

Lists of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9W, Airspace Designations and Reporting Points, dated August 8, 2012, effective September 15, 2012, is amended as follows:

Paragraph 6004 Class E airspace designated as an extension to a Class D surface area.

* * * * *

AEA PA E4 Wilkes-Barre, PA [Amended]

Wilkes-Barre/Scranton International Airport

(lat. 41°20′19″ N., long 75°43′24″ W.)

That airspace extending upward from the surface within 3.4 miles each side of a 033° bearing from Wilkes-Barre/Scranton International Airport extending from the 4.1-mile radius to 11 miles northeast of the airport, and within 1 mile either side of a 213° bearing from the airport extending from the 4.1-mile radius to 7.3 miles southwest of the airport. This Class E airspace area is effective during specific dates and times established in advance by a Notice to Airmen. The effective date and time will thereafter be continuously published in the Airport/Facility Directory.

Paragraph 6005 Class E airspace areas extending upward from 700 feet or more above the surface of the earth.

* * * * *

AEA PA E5 Wilkes-Barre, PA [Amended]

Wilkes-Barre/Scranton International Airport

(Lat. 41°20′19″ N., long 75°43′24″ W.)

Wilkes-Barre/Scranton International ILS Localizer Northeast Course

(Lat. 41°19′54″ N., long 75°43′49″ W.)

Wilkes-Barre Wyoming Valley Airport

(Lat. 41°17′50″ N., long. 75°51′09″ W.)

Wyoming Valley Medical Center

(Lat. 41°15′45″ N., long 75°48′40″ W.)

ZIGAL Waypoint

(Lat. 41°16′08″ N., long 75°48′36″ W.)

Scranton, Community Medical Center, PA

(Lat. 41°24′00″ N., long 75°38′49″ W.)

ZESMA Waypoint

(Lat. 41°24′00″ N., long 75°39′39″ W.)

Hanover Township Fire Station #5 Heliport

(Lat. 41°14′08″ N., long 75°56′03″ W.)

ZIDKA Waypoint

(Lat. 41°14′14″ N., long 75°55′12″ W.)

That airspace extending upward from 700 feet above the surface of the Earth within a 11.8-mile radius of Wilkes-Barre/Scranton International Airport, and within an 11.6- mile radius of Wilkes-Barre Wyoming Valley Airport, and including that airspace within a 6-mile radius of each of the Point in Space Waypoints ZIGAL, ZESMA, and ZIDKA serving the Wyoming Medical Center, the Community Medical Center, and the Hanover Township Fire Station #5 Heliport, respectively.

Issued in College Park, Georgia, on December 12, 2012.
Barry A. Knight,
Manager, Operations Support Group, Eastern Service Center, Air Traffic Organization.

[FR Doc. 2013-01363 Filed 1-23-13; 8:45 am]

BILLING CODE 4910-13-P